DEPARTMENT OF HEALTH AND HUMAN SERVICES

Centers for Disease Control and Prevention

[60Day-17-1014: Docket No. CDC-2017-0012]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the updated “CDC WORKSITE HEALTH SCORECARD,” an organizational assessment and planning tool designed to help employers identify gaps in their health promotion programs and prioritize high-impact strategies for health promotion at their worksites.

DATES: Written comments must be received on or before May 1, 2017.

ADDRESSES: You may submit comments, identified by Docket No. CDC-2017-0012 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

CDC Worksite Health ScoreCard (HSC) (OMB Control Number 0920-1014, expires 4/30/2017)—Revision—National Center for Chronic Disease Prevention and Health Promotion (NCCDPHP), Centers for Disease Control and Prevention (CDC).

Background and Brief Description

In the United States, chronic diseases such as heart disease, obesity and diabetes are among the leading causes of death and disability. Although chronic diseases are among the most common and costly health problems, they are also among the most preventable. Adopting healthy behaviors—such as eating nutritious foods, being physically active and avoiding tobacco use—can prevent the devastating effects and reduce the rates of these diseases.

Employers are recognizing the role they can play in creating healthy work environments and providing employees with opportunities to make healthy lifestyle choices. To support these efforts, CDC developed an online organizational assessment tool called the CDC Worksite Health Scorecard.

The CDC Worksite Health Scorecard is a tool designed to help employers assess whether they have implemented evidence-based health promotion interventions or strategies in their worksites to prevent heart disease, stroke, and related conditions such as hypertension, diabetes, and obesity. The revised assessment contains 151 core yes/no questions with an additional 20 optional demographic questions divided into 19 modules (risk factors/conditions/demographics) that assess how evidence-based health promotion strategies are implemented at a worksite. These strategies include health promoting counseling services, environmental supports, policies, health plan benefits, and other worksite programs shown to be effective in preventing heart disease, stroke, and related health conditions. Employers can use this tool to assess how a comprehensive health promotion and disease prevention program is offered to their employees, to help identify program gaps, and to prioritize

The proposed information collection revision supports development, validation, and evaluation of the updated CDC Worksite Health ScoreCard (HSC), a web-based organizational assessment tool designed to help employers identify gaps in their health promotion programs and prioritize high-impact strategies for health promotion at their worksites (available at http://www.cdc.gov/healthscorecard). HSC users will create a user account, complete the online assessment and receive an immediate feedback report that summarizes the current status of their worksite health program; identifies gaps in current programming; benchmarks individual employer results against other users of the system; and provides access to worksite health tools and resources to address employer gaps and priority program areas.

The updated HSC includes questions in four new topic areas—Sleep, Alcohol & Other Substance Abuse, Cancer, and Musculoskeletal Disorders—along with revisions to previously existing questions based on supporting evidence. In 2017, CDC will recruit one hundred employers (each represented by two knowledgeable employees) to pilot test the updated HSC. From the employers that complete the survey, CDC will conduct follow-up telephone interviews on a subset of about 15 employers (each represented by two knowledgeable employees). The follow-up telephone interviews will gather general impressions of the HSC—particularly the new modules—and also allow for discussion of items that presented discrepancies (and items that were left blank) to understand the respondent's interpretation and perspective of their answers these questions.

This process will assess the validity and reliability of the questions, as well as allow the CDC to gather suggestions for additional refinements, where necessary.

Following this pilot testing, CDC will continue to provide outreach to and register approximately 800 employers per year to use the online survey HSC in their workplace health program assessment, planning, and implementation efforts which is open to employers of all sizes, industry sectors, and geographic locations across the country.

CDC will seek a three-year OMB approval for this information collection project. Participation is voluntary and there are no costs to respondents other than their time.

Estimated Annualized Burden Hours
Type of respondent | Form name | Number of respondents | Number of responses per respondent | Average burden per response (in hours) | Total burden (in hours)
Employers | CDC Worksite Health Scorecard | 800 | 1 | 75/60 | 1,000
| CDC Worksite Health Scorecard Cognitive interview | 32 | 1 | 1 | 32
| CDC Worksite Health Scorecard Pilot evaluation | 200 | 1 | 5/60 | 17
Total |  |  |  |  | 1,049

Leroy A. Richardson,
Chief, Information Collection Review Office, Office of Scientific Integrity, Office of the Associate Director for Science, Office of the Director, Centers for Disease Control and Prevention.

[FR Doc. 2017-04042 Filed 3-1-17; 8:45 am]

BILLING CODE 4163-18-P